DEPARTMENT OF JUSTICE

Notice of Lodging Proposed Consent Decree

In accordance with Departmental Policy, 28 CFR 50.7, notice is hereby given that a proposed Consent Decree in United States v. Mashni, et al., Case No. 2:18-cv-02288-DCN, was lodged with the United States District Court for the District of South Carolina, Charleston Division, on January 26, 2022.

This proposed Consent Decree concerns a complaint filed by the United States against Paul Edward Mashni; PEM Residential, LLC; PEM Real Estate Group, LLC; Finish Line Foundation II, Inc.; Kiawah River Farms, LLC; Kiawah River Excavating & Earthworks, LLC; KRF XSL, LLC; SC Investment Holdings, LLC; and SC Investment Holdins, LLC (collectively “Defendants”), pursuant to Sections 301, 309, and 404 of the Clean Water Act, 33 U.S.C. 1311, 1319, and 1344, to obtain injunctive relief from and impose civil penalties against the Defendants for violating the Clean Water Act by discharging pollutants without a permit into waters of the United States. The proposed Consent Decree resolves these allegations by requiring the Defendants to pay a civil penalty, effectuate compensatory mitigation, and be subject to other injunctive relief.

The Department of Justice will accept written comments relating to this proposed Consent Decree for thirty (30) days from the date of publication of this Notice. Please address comments to Johanna Valenzuela, Assistant United States Attorney, United States Attorney's Office for the District of South Carolina, 1441 Main Street, Suite 500, Columbia, SC, 29201, or to pubcomment_eds.enrd@usdoj.gov and refer to United States v. Mashni, et al., Case No. 2:18-cv-02288-DCN, DJ # 90-5-1-4-21393.

The proposed Consent Decree may be examined at http://www.justice.gov/enrd/consent-decrees. In addition, the proposed Consent Decree may be examined at the Clerk's Office, United States District Court for the District of South Carolina, Charleston Division, 85 Broad Street, Charleston, SC 29401. However, the Clerk Office's may limit public access due to the ongoing Coronavirus/COVID-19 emergency.

Cherie L. Rogers,
Assistant Section Chief, Environmental Defense Section, Environment and Natural Resources Division.

[FR Doc. 2022-01978 Filed 1-31-22; 8:45 am]

BILLING CODE P